DEPARTMENT OF COMMERCE

International Trade Administration

[A-428-814, A-428-815]

Amended Final Determinations of Sales at Less Than Fair Value: Certain Cold-Rolled and Corrosion Resistant Carbon Steel Flat Products From Germany

AGENCY: Import Administration, International Trade Administration, Department of Commerce.

ACTION: Amendment to final determinations of antidumping duty investigations in accordance with decision upon remand.

SUMMARY: We are amending the “all others” cash deposit rate to 21.66% ad valorem for certain cold-rolled carbon steel flat products from Germany and 10.02% ad valorem for corrosion resistant carbon steel flat products from Germany.

EFFECTIVE DATE: September 27, 2000.

FOR FURTHER INFORMATION CONTACT: Cynthia Thirumalai, Office 1, Group 1, AD/CVD Enforcement, Import Administration, International Trade Administration, U.S. Department of Commerce, 14th Street and Constitution Avenue, NW, Washington DC 20230; telephone (202) 482-4087.

The Applicable Statute and Regulations

Unless otherwise indicated, all citations to the Tariff Act of 1930, as amended (the Act), are references to the provisions in effect as of December 31, 1994. In addition, unless otherwise indicated, all citations to the Department of Commerce's (the Department's) regulations refer to 19 CFR part 353 (April 1997).

Background

On April 27, 1995, the United States Court of International Trade (CIT) remanded to the Department the amended final determinations in the antidumping duty investigations of certain cold-rolled and corrosion resistant carbon steel flat products from Germany. See Thyssen Stahl AG v. United States, 886 F. Supp. 23 (CIT 1995) (see also Notice of Final Determination of Sales at Less Than Fair Value; Certain Hot-Rolled Carbon Steel Flat Products, Certain Cold-Rolled Carbon Steel Flat Products, Certain Corrosion-Resistant Carbon Steel Flat Products and Certain Cut-to-Length Carbon Steel Flat Products From Germany, 58 FR 37136 (July 9, 1993), as amended, 58 FR 44170 (August 19, 1993)). In its remand, the CIT instructed the Department to recalculate the dumping margins for Thyssen Stahl AG (Thyssen) by 1) disallowing the adjustment for currency hedging gains on U.S. sales, and 2) multiplying the rate of the German value-added tax (VAT) by the U.S. price and then increasing that price by the resultant amount (while not subtracting the VAT from the home market price). On June 27, 1995, the Department filed its results of redetermination pursuant to the CIT's order.

Following the Court of Appeals for the Federal Circuit's (CAFC's) decision with respect to the VAT methodology in Federal Mogul Corp. v. United States, 63 F.3d 1572 (Fed.Cir. 1995) (Federal Mogul), the Department requested a second remand in these cases to conform the VAT methodology in the above-referenced investigations to that resulting from Federal Mogul. The CIT granted the Department's request for a second remand in Slip Op. 95-183 (November 17, 1995). Pursuant to Federal Mogul, the Department changed its treatment of home market consumption taxes by adding to U.S. price the absolute amount of such taxes incurred on the comparison home market sales. On January 22, 1996, the Department filed its revised final remand results.

On May 12, 1997, the CIT affirmed the final revised remand determinations in Thyssen Stahl AG v. United States Slip Op. 97-55 (May 12, 1997). That decision was appealed. On July 27, 1998, the CAFC affirmed the decision of the CIT in Thyssen Stahl AG v. United States, Slip Op. 97-1509 (July 27, 1998).

In light of the final and conclusive court decision in this action, we are amending the “all others” cash deposit rate from 19.03% to 21.66% ad valorem for cold-rolled and from 4.18% to 10.02% ad valorem for corrosion resistant carbon steel flat products from Germany. We are not amending the cash deposit rates for Thyssen because they have been superseded by subsequent administrative reviews for this company.

Amended Final Determination

As there is now a final and conclusive court decision in this action, we are amending the amended final determinations on certain cold-rolled and corrosion resistant carbon steel flat products from Germany, pursuant to section 516A(e) of the Act. As a result of these remand redeterminations, the recalculated final weighted-average margins are as follows:

Manufacturer/producer/exporter | Margin percentage
Cold-Rolled:
Klöckner Stahl GmbH | 23.54
Thyssen Stahl AG | 20.64
All Others | 21.66
Corrosion Resistant:
Thyssen Stahl AG | 10.02
All Others | 10.02

Cash Deposit Instructions

The “all others” cash deposit rates of 21.66% ad valorem for cold-rolled and 10.02% ad valorem for corrosion resistant carbon steel flat products from Germany will be effective upon publication of this notice of amended final determinations on all shipments of the subject merchandise entered, or withdrawn from warehouse, for consumption on or after the publication date.

These amended final determinations and notice are in accordance with sections 736(a)(1) of the Act (19 U.S.C. 1675(a)(1)) and 19 CFR 353.20(a)(4) (1994).

Dated: September 20, 2000.
Troy H. Cribb,
Acting Assistant Secretary for Import Administration.

[FR Doc. 00-24851 Filed 9-26-00; 8:45 am]

BILLING CODE 3510-DS-P